DEPARTMENT OF ENERGY

Federal Energy Regulatory Commission

[Project Nos. 2593-030 and 2823-019]

Algonquin Power Company; Notice of Intent To File License Application, Filing of Pre-Application Document, and Approving Use of the Traditional Licensing Process

a. Type of Filing: Notice of Intent to File License Application and Request to Use the Traditional Licensing Process.

b. Project No.: 2593-030 and 2823-019.

c. Date Filed: November 29, 2012.

d. Submitted By: Algonquin Power Company.

e. Name of Project: Upper Beaver Falls Hydroelectric Project (P-2593-030) and Lower Beaver Falls Hydroelectric Project (P-2823-019).

f. Location: The Upper and Lower Beaver Falls Hydroelectric Projects are located on the Beaver River in the Towns of Croghan and New Bremen in Lewis County, New York. The projects do not affect federal lands.

g. Filed Pursuant to: 18 CFR 5.3 of the Commission's regulations

h. Potential Applicant Contact: Mr. Armando Sanchez, Algonquin Power Company, 2845 Bristol Circle, Oakville, Ontario, Canada, L6H 7H7; (905) 465-4555; or email at armando.sanchez@algonquinpower.com.

i. FERC Contact: Andy Bernick at (202) 502-8660 or email at andrew.bernick@ferc.gov.

j. Algonquin Power Company filed a request to use the Traditional Licensing Process for both projects on November 29, 2012. Algonquin Power Company provided public notice of the request on December 19, 2012. In a letter dated January 23, 2013, the Director of the Division of Hydropower Licensing approved the request to use the Traditional Licensing Process.

k. With this notice, we are initiating informal consultation with: (a) The U.S. Fish and Wildlife Service and/or NOAA Fisheries under section 7 of the Endangered Species Act and the joint agency regulations thereunder at 50 CFR Part 402; and (b) the New York State Historic Preservation Officer, as required by section 106, National Historical Preservation Act, and the implementing regulations of the Advisory Council on Historic Preservation at 36 CFR 800.2.

l. With this notice, we are designating Algonquin Power Company as the Commission's non-federal representative for carrying out informal consultation, pursuant to section 7 of the Endangered Species Act, and section 106 of the National Historic Preservation Act.

m. Algonquin Power Company filed a combined Pre-Application Document (PAD) for both projects with the Commission, including a proposed process plan and schedule, pursuant to 18 CFR 5.6 of the Commission's regulations.

n. A copy of the PAD is available for review at the Commission in the Public Reference Room or may be viewed on the Commission's Web site (http://www.ferc.gov), using the “eLibrary” link. Enter the docket number (P-2593-030 or P-2823-019), excluding the last three digits in the docket number field to access the document. For assistance, contact FERC Online Support at FERCOnlineSupport@ferc.gov or toll free at 1-866-208-3676, or for TTY, (202) 502-8659. A copy is also available for inspection and reproduction at the address in paragraph h.

o. The licensee states its unequivocal intent to submit an application for a new license for Project Nos. 2593-030 and 2823-019. Pursuant to 18 CFR 16.8, 16.9, and 16.10 each application for a new license and any competing license applications must be filed with the Commission at least 24 months prior to the expiration of the existing license. All applications for license for these projects must be filed by December 31, 2015.

p. Register online at http://www.ferc.gov/docs-filing/esubscription.asp to be notified via email of new filing and issuances related to this or other pending projects. For assistance, contact FERC Online Support.

Dated: January 23, 2013.
Kimberly D. Bose,
Secretary.

[FR Doc. 2013-01923 Filed 1-29-13; 8:45 am]

BILLING CODE 6717-01-P